DEPARTMENT OF THE INTERIOR

Fish and Wildlife Service

Receipt of an Application for an Incidental Take Permit for Construction of a Combination of Commercial Buildings and Residential Units in Palm Beach County, FL

AGENCY: Fish and Wildlife Service, Interior.

ACTION: Notice; request for comments.

SUMMARY: We, the Fish and Wildlife Service (Service), announce the availability of an incidental take permit (ITP) and Habitat Conservation Plan (HCP). Royal Tequesta LLC (Applicant) requests an ITP pursuant to section 10(a)(1)(B) of the Endangered Species Act of 1973, as amended (Act). The Applicant anticipates taking about 2.24 acres of Florida scrub-jay (Aphelocoma coerulescens) (scrub-jay) foraging and sheltering habitat incidental to partial land clearing of their 6-acre lot and subsequent commercial and residential construction and supporting infrastructure in Palm Beach County, Florida (Project). The destruction of 2.24 acre of foraging and sheltering habitat is expected to result in the take of one family of scrub-jays. The Applicant's Habitat Conservation Plan (HCP) describes the mitigation and minimization measures proposed to address the effects of the Project to the Florida scrub-jay.

DATES: Written comments on the ITP applications and HCPs should be sent to the South Florida Ecological Services Office (see ADDRESSES) and should be received on or before April 16, 2007.

ADDRESSES: Persons wishing to review the application and HCP may obtain a copy by writing the Service's South Florida Ecological Services Office. Please reference permit number TE 136147-0 in such requests. Documents will also be available for public inspection by appointment during normal business hours at the South Florida Ecological Services Office, 1339 20th Street, Vero Beach, Florida 32960-3559.

FOR FURTHER INFORMATION CONTACT: Ms. Trish Adams, Fish and Wildlife Biologist, South Florida Ecological Services Office, Vero Beach, Florida (see ADDRESSES), telephone: 772/562-3909, ext. 232.

SUPPLEMENTARY INFORMATION: If you wish to comment, you may submit comments by any one of several methods. Please reference permit number TE 136147-0 in such requests. You may mail comments to the Service's South Florida Ecological Services Office (see ADDRESSES). You may also comment via the Internet to trish_adams@fws.gov. Please also include your name and return address in your Internet message. If you do not receive a confirmation from us that we have received your internet message, contact us directly at the telephone number listed under FOR FURTHER INFORMATION CONTACT. Finally, you may hand deliver comments to the Service office listed under ADDRESSES. Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Construction of the Project will take place within Section 30, Township 40 South, Range 43 East, Tequesta, Palm Beach County, Florida. The Project site is bounded by the Casa del Sol development project on the north, County Line Plaza on the south, U.S. Highway 1 on the east, and by the Village of Tequesta water treatment plant on the west. Scrub-jays occupy 3.58 acres of the 6-acre site.

The Applicant proposes to minimize take of scrub-jays by avoiding land clearing activities during the breeding or nesting season (March through June) and by preserving, restoring, and maintaining 1.34 acres of scrub-jay habitat on their 6-acre lot in perpetuity. The Applicants propose to mitigate for the loss of 2.24 acres of occupied scrub-jay habitat by contributing a total of $384,017.78 to the Florida Scrub-jay Conservation Program Fund administered by The Nature Conservancy. Funds in this account are ear-marked for use in the conservation and recovery of scrub-jays and may include habitat acquisition, restoration, and management.

The Service has determined that the Applicant's proposal, including the proposed mitigation and minimization measures, will have a minor or negligible effect on the species covered in the HCP. Therefore, the ITP is for a “low-effect” project and qualifies as a categorical exclusion under the National Environmental Policy Act (NEPA), as provided by the Department of the Interior Manual (516 DM 2, Appendix 1 and 516 DM 6, Appendix 1). This preliminary information may be revised based on our review of public comments that we receive in response to this notice. Low-effect HCPs are those involving (1) minor or negligible effects on federally listed or candidate species and their habitats, and (2) minor or negligible effects on other environmental values or resources.

The Service will evaluate the HCP and comments submitted thereon to determine whether the application meets the requirements of section 10(a) of the Act (16 U.S.C. 1531 et. seq.). If it is determined that those requirements are met, the ITP will be issued for the incidental take of the Florida scrub-jay. The Service will also evaluate whether issuance of the section 10(a)(1)(B) ITP complies with section 7 of the Act by conducting an intra-Service section 7 consultation. The results of this consultation, in combination with the above findings, will be used in the final analysis to determine whether or not to issue the ITP.

Authority: This notice is provided pursuant to Section 10 of the Endangered Species Act and NEPA regulations (40 CFR 1506.6).

Dated: March 9, 2007.
Paul Souza,
Field Supervisor, South Florida Ecological Services Office.

[FR Doc. E7-4853 Filed 3-15-07; 8:45 am]

BILLING CODE 4310-55-P